DEPARTMENT OF TRANSPORTATION

Federal Aviation Administration

14 CFR Part 91

[Docket No. FAA-2002-11332; SFAR No. 95]

RIN No. 2120-AH61

Airspace and Flight Operations Requirements for the 2002 Winter Olympic Games, Salt Lake City, UT

AGENCY: Federal Aviation Administration (FAA), DOT.

ACTION: Final rule.

SUMMARY: This Special Federal Aviation Regulation (SFAR), applicable February 8, 2002, through February 24, 2002, establishes restrictions for aircraft operations in the vicinity of the 2002 Winter Olympic Games to be held in Salt Lake City, UT. Additionally, this action notifies the public as to the establishment of temporary flight restrictions in areas overlying the various competition venues and the Olympic Village for the XIX Olympic Winter Games. This action also establishes a security process for certain flight arrivals and departures at specified airports in the vicinity of the Olympic Games. The FAA and the United States Secret Service (Secret Service) believe this action is necessary for the security of participating athletes, dignitaries, and others attending the Winter Games, and the people of Utah, and for the safe operation and management of aircraft operating to, within, and from these areas.

DATES: Effective January 15, 2002. The Olympic Village temporary flight restriction (TFR) area is implemented January 25, 2002, 0000 hours mountain standard time (MST), through February 25, 2002, 2359 hours MST. The Olympic venue TFR's are implemented February 6, 2002, 0000 hours MST through February 24, 2002, 2359 hours MST. The Olympic Ring Airspace, the slot reservation program and the security inspection process are implemented February 8, 2002, 0000 hours MST through February 24, 2002, 2359 hours MST.

FOR FURTHER INFORMATION CONTACT: Cliff Armstrong, Special Operations Division, ATP-200, Federal Aviation Administration, 800 Independence Avenue, SW, Washington, DC 20591; telephone (202) 267-9155.

SUPPLEMENTARY INFORMATION:

Availability of This Action

You can get an electronic copy using the Internet by taking the following steps:

(1) Go to search function of the Department of Transportation's electronic Docket Management System (DMS) Web page (http://dms.dot.gov/search).

(2) On the search page, type in the last four digits of the Docket number shown at the beginning of this notice. Click on “search.”

(3) On the next page, which contains the Docket summary information for the Docket you selected, click on the final rule.

You can also get an electronic copy using the Internet through FAA's web page at http://www.faa.gov/avr/armhome.htm or the Federal Register's web page at http://www.access.gpo.gov/su_docs/aces/aces140html.

You can also get a copy by submitting a request to the Federal Aviation Administration, Office of Rulemaking, ARM-1, 800 Independence Avenue, SW, Washington, DC 20591, or by calling (202) 267-9680. Make sure to identify the amendment number or docket number of this final rule.

Small Entity Inquiries

The Small Business Regulatory Enforcement Fairness Act (SBREFA) of 1996 requires the FAA to comply with small entity requests for information advice about compliance with statutes and regulations within the FAA's jurisdiction. Therefore, any small entity that has a question regarding this document may contact its local FAA official. Internet users can find additional information on SBREFA on the FAA's web page at http://www.faa.gov/avr/arm/sbrefa.htm and send electronic inquiries to the following Internet address: 9-AWA-SBREFA@faa.gov.

Background

The 2002 Winter Olympic Games will be held February 8 through February 24, 2002, primarily in the Salt Lake City, Utah, area. This is an important international sporting event. In terms of air traffic demand, the pre-game, the game, and the post-game activities from January 25 through February 25, 2002, are expected to generate substantial increases in aircraft operations in Salt Lake City and the surrounding areas. The Secret Service has been charged with the responsibility of developing a security plan for the Olympics, and the United States Customs Service (Customs Service) has been granted the authority for providing the security force. Additionally, the FAA is responsible for implementing the security plan as it pertains to aviation security.

Prior to September 11, 2001, the FAA, in conjunction with the Secret Service and the Customs Service, determined that it would be necessary to establish TFR's over each Olympic venue and over the Olympic village. These TFR's were to be implemented by a notice to airmen (NOTAM), pursuant to the FAA's regulations in Title 14 Code of Federal Regulations (14 CFR) section 91.145, TFR in the Vicinity Of Aerial Demonstrations Or Major Sporting Events, and section 99.7, Special Security Instructions. In addition, the FAA is establishing a reservation system to manage Instrument Flight Rules (IFR) operations into and out of key airports in the Salt Lake City area.

The terrorist attacks of September 11, 2001, and the nation's continuing high alert status have led the Secret Service, and the Customs Service, to reevaluate the security issues associated with staging a large international event such as the Winter Olympic Games. Additionally, the mountainous terrain within and around Salt Lake City provides unique security concerns that, in this new environment, necessitate stricter security measures to protect participating athletes, dignitaries, and others attending the Winter Games, and the people of Utah. These additional security measures are part of a broader security package that encompasses all transportation modes.

Given the short time frame between the events of September 11, 2001, and the 2002 Winter Olympic Games, the FAA is adopting this SFAR as a final rule, pursuant to its authority under 49 U.S.C. 40103 and 44701(a)(5) and section 553 of the Administrative Procedures Act. Section 40103 provides that the Administrator shall develop “plans and policy for the use of navigable airspace and assign by regulation or order the use of the airspace necessary to ensure the safety of aircraft” (See 49 U.S.C. 40103(b)(1)). In addition, the FAA shall “establish security provisions that will encourage and allow the maximum use of the navigable airspace by civil aviation aircraft consistent with national security, [and] the Administrator, in consultation with the Secretary of Defense shall * * * (B) by regulation or order, restrict or prohibit flight of civil aircraft that the Administrator cannot identify, locate and control with available facilities in those areas.” See 49 U.S.C. 40103(b)(3)(B). See also, 49 U.S.C. 44701(a)(5).

The Administrative Procedures Act permits an agency to forego notice and comment rulemaking when “the agency for good cause finds * * * that notice and public procedures thereon are impracticable, unnecessary, or contrary to the public interest.” See 5 U.S.C. 553(b)(B). The FAA finds that notice and comment is impracticable and unnecessary because this SFAR is a temporary action, imposed for a very short time-frame, that is necessary to provide for the security of the Winter Olympic Games, the participating athletes, dignitaries, others attending the Winter Games, and the people of Utah. Additionally, the FAA finds that it is contrary to the public interest to follow notice and comment procedures and thereby delay this final rule because the affected parties need time to obtain approval from the Utah Olympic Public Safety Command (UOPSC) if they plan on operating within the Olympic ring airspace; and to take actions to otherwise mitigate the impact of this final rule.

Airspace Restrictions

The Secret Service has recommended, a four-pronged plan for securing the airspace around the Salt Lake Area that includes the following—(1) A 45 nautical mile (NM) restricted area around Salt Lake City Airport (Olympic ring airspace); (2) nine TFR's established over the Olympic venues (including the Olympic Village); (3) a slot reservation program for certain airports located just outside of the Olympic ring airspace; and (4) a security inspection for flights operating under section 4(a)(x) of this SFAR.

In support of this security plan, the FAA is establishing the Olympic ring airspace which consists of a 45 NM circle centered on Runway 17 Localizer/DME (I-BNT) at Salt Lake City International Airport with a vertical limit extending from the surface up to, but not including 18,000 feet Mean Sea Level (MSL). Operating restrictions within the 45 NM radius Olympic ring airspace are effective for the period from February 8, 2002 through February 24, 2002, 24 hours a day. The Olympic ring airspace includes all Olympic venues, the major population center in Utah, and key transportation infrastructure modes. The establishment of this Olympic ring airspace will restrict aircraft operations, including, but not limited to, ultralight vehicles regulated under 14 CFR part 103. Air Traffic Control (ATC) will retain the ability to manage aircraft through the Olympic ring airspace in accordance with normal traffic flows. No crewmember (including flight attendants) can enter the Olympic ring airspace without having a background check completed by UOPSC. Carriers who have security programs that comply with section 108.101(a) are recognized by UOPSC. For any questions on your accreditation status, please call UOPSC.

Only certain airports within the Olympic ring airspace may be used by people operating aircraft during the effective time period of this SFAR. These airports are listed in section 3(g) of this SFAR. All other airports within the Olympic ring airspace cannot be used by people operating aircraft, except that the military and other security personnel may use other airports (e.g., military airports) if authorized by Aviation Security Operations Command (ASOC) under section 4 (a)(vii). See also section 3 (h). Additionally, only those flights specifically authorized in Section 4 of this SFAR are permitted to operate in the Olympic ring airspace in accordance with the conditions of this SFAR. On February 8, 2002, 1800 hours MST to 2200 hours MST, and February 24, 2002, 1800 hours MST to 2200 hours MST, the Olympic ring airspace will be closed to all air traffic except aeromedical aircraft, military aircraft, aircraft operating in support of national or event security and public safety, and aircraft instructed by ATC to enter the airspace due to weather, traffic or special ATC routing.

Within the Olympic ring airspace, the FAA is establishing additional flight restrictions over the Olympic village TFR and venue TFR areas. The establishment of TFR areas over the Olympic Village and the competition venues creates no-fly zones for all aircraft, except:

(1) Aeromedical aircraft;

(2) Military aircraft;

(3) Operations in support of national or event security and public safety that are authorized by UOPSC; or

(4) Aircraft that are under ATC control.

Operating restrictions within the airspace overlying the Olympic Village are effective for the period from January 25, 2002, through February 25, 2002, 24 hours a day. Operating restrictions within the airspace overlying the competition venues are effective for the period from February 6, 2002 through February 24, 2002, 24 hours a day. The restrictions become effective before and after the Olympic events to accommodate the observation and securing of the airspace. The TFR areas are effective from the surface up to but not including 18,000 feet MSL. The TFR area sites are as follows—

(1) Olympic Village—Salt Lake City, UT;

(2) The E Center—West Valley City, UT;

(3) Utah Olympic Oval—Kearns, UT;

(4) The Peaks Ice Arena—Provo, UT;

(5) The Ice Sheet at Ogden—Ogden, UT;

(6) Snowbasin Ski Area—Huntsville, UT;

(7) Utah Olympic Park—Park City, UT;

(8) Park City and Deer Valley Mountain Resorts—Park City, UT; and

(9) Soldier Hollow—Heber City, UT.

The TFR areas are circular areas of 2 to 3 NM in radius from the surface up to, but not including, 18,000 feet MSL. Aircraft and ultralight vehicles regulated under 14 CFR part 103 are prohibited from operating within the Olympic ring airspace during the effective dates and times unless authorized by the designated using agency or ATC. The locations, dimensions, and effective times of the TFR areas are published for use by all pilots on air navigation charts and in the Federal Register, and specific details will be disseminated by NOTAM. These publications are available from the Flight Service Station and on the FAA website, www.faa.gov/ntap. Requests for access to the airspace areas can be obtained by contacting the using agency. Olympic venues that fall within Class B surface areas, specifically, the Olympic Village in Salt Lake City, the E Center in West Valley City and the Olympic Oval in Kearns, are charted along with those outside of Class B airspace.

Slot Reservation Program

The FAA is aware that some operators may choose to conduct operations from airports outside the Olympic ring airspace. There are four airports located near the Olympic ring airspace that the FAA believes are likely to receive an increased amount of traffic due to the Olympics. These four airports are Wendover, Logan, and Brigham City, UT, and Evanston, WY. In order to manage aircraft operations at those airports the FAA is establishing a slot reservation program for these four airports. Thus, beginning on February 8, 2002, 0000 hours, through February 25, 2002, 2359 hours, all aircraft arriving or departing at these four airports must have a slot reservation prior to arrival or departure. Slot reservations may be obtained up to 72 hours in advance starting February 5, 2002, by calling 1-800-875-9755, 24 hours a day, or by accessing the website www.fly.faa.gov. Flights arriving or departing these airports may not enter the Olympic ring airspace unless specifically authorized in section 4 (a)(i) through (ix) of this SFAR.

Security Inspection

To ensure the safety of the Winter Olympic Games, the participating athletes, dignitaries, others attending the Winter Games, and the people of Utah, all flights entering the Olympic ring airspace under section 4(a)(x) of this SFAR (including charter operations, corporate operations and general aviation) must be inspected at a Gateway airport and approved by the Salt Lake City (SLC) Olympic Security Team Inspectors prior to operating within the Olympic ring airspace. Gateway airports are those airports outside of the Olympic ring airspace that have SLC Olympic Security Team Inspectors present to inspect and approve an aircraft to enter the Olympic ring airspace. The following are designated Gateway airports:

(1) City of Colorado Springs Municipal Airport, Colorado Springs, CO (COS);

(2) Boise Air Terminal (Gowen Field), Boise, ID (BOI);

(3) Walker Field, Grand Junction, CO (GJT); and

(4) McCarran International Airport, Las Vegas, NV (LAS).

Flight operations conducted under section 4(a)(x) of this SFAR that depart from an airport within the Olympic ring airspace must be inspected and approved by SLC Olympic Security Team Inspectors at that airport prior to departure. Operators must arrange for an appointment with SLC Olympic Security Team Inspectors no earlier than 48 hours in advance prior to landing at a Gateway airport or departing from an airport within the Olympic ring airspace by calling 801-257-2761. Failure to arrange for an inspection appointment may result in long delays and potentially being denied entry into or out of the Olympic ring airspace. This security inspection process is applicable at all times from February 8, 2002, 0000 hours MST, to February 24, 2002, 2359 hours MST.

Aircraft operators covered by this SFAR will be permitted to conduct operations from February 8, 2002, 0000 hours MST, to February 24, 2002, 2359 hours MST, only at the following airports within the Olympic ring airspace:

(1) Salt Lake City International (SLC), Salt Lake City, UT;

(2) Ogden Municipal Airport (OGD), Ogden, UT;

(3) Provo Municipal Airport (PVU), Provo, UT;

(4) Heber City Municipal-Ross McDonald Field Airport (36U), Heber City, UT;

(5) Salt Lake City Municipal Airport (U42), Salt Lake City, UT; and

(6) Skypark Airport (BTF), Bountiful, UT (rotorcraft operations only).

Exceptions

This SFAR contains provisions to provide for the safety and security of the Winter Olympic Games, participating athletes, dignitaries, others attending the Winter Games, and the people of Utah, and for the flexible and efficient management and control of air traffic. Included in this SFAR are provisions that give priority to, or exclude from requirements of the special regulation, flight operations dealing with or containing essential military, medical emergency, rescue, law enforcement, public health and welfare, Presidential, and heads of state.

Obtaining U.S. Air Navigation Charts

The following provides information on how to obtain the special air navigation charts for the Olympic Games, as well as other air navigation charts for use in the U.S. The National Aeronautical Charting Office (NACO) publishes and distributes aeronautical charts of the U.S. National airspace system (NAS). Charts are readily available through a network of sales agents located at or near principal civil airports. Due to the large variety, all NACO products may not be available locally; users can procure these products directly from NACO. Chart prices, subscription rates, and catalogs of related publications are available on request and are obtainable by writing to: FAA, National Aeronautical Charting Office, AVN-530, Distribution Division, Riverdale, Maryland 20737, USA, Phone 1-800-638-8972, Fax 301-436-6829, E-Mail 9-AMC-ChartSales@faa.gov.

Notice to Airmen (NOTAM) Information

ATC and air traffic flow management systems will monitor and assess the air traffic demand so that restrictions are kept to an essential minimum. To assure maximum flexibility, the FAA will announce all restrictions and other actions including the lifting of any restrictions taken by the FAA in response to changing airspace conditions through NOTAMS.

Time-critical aeronautical information that is of a temporary nature or is not sufficiently known in advance to permit publication on aeronautical charts or in other operational publications, receives immediate dissemination via the National NOTAM system. All domestic operators planning flight to the Olympics need to pay particular attention to NOTAM D and Flight Data Center (FDC) NOTAM information. NOTAM D information could affect a pilot's decision to make a flight. NOTAM D pertains to information on airports, runways, navigational aids, radar services, and other information essential to flight. An FDC NOTAM will contain information which is regulatory in nature, such as amendments to aeronautical charts and restrictions to flight. FDC NOTAM and NOTAM D information would also be provided to international operators in the form of International NOTAM's. NOTAM's are distributed through the National Communications Center in Kansas City, Missouri, USA, for transmission to all air traffic facilities having telecommunications access.

Pilots and operators should consult the Flight Service Station or the FAA website at www.FAA.gov/ntap. For more detailed information concerning the NOTAM system, refer to the Aeronautical Information Manual, “Preflight” Section.

Operators of aircraft and ultralight vehicles regulated under 14 CFR part 103 must clearly understand that the restrictions in this SFAR are in addition to other laws and regulations of the U.S. The SFAR does not waive or supersede any U.S. law or obligation. When operating within the jurisdictional limits of the U.S., operators of foreign aircraft must conform to all applicable requirements of U.S. Federal, State, and local governments. In particular, aircraft operators planning flights into the U.S. must be aware of and conform to the rules and regulations of the:

(1) U.S. Federal Aviation Administration regarding flights entering the United States;

(2) U.S. Customs Service, Immigration and other authorities regarding customs, immigrations, health, firearms, and imports/exports;

(3) U.S. FAA regarding flight in or into United States airspace. This includes compliance with Federal aviation regulations regarding operations within the territorial airspace of the United States through air defense identification zones, and compliance with general flight rules; and

(4) Airport management authorities regarding use of airports and airport facilities.

Justification for Immediate Adoption

Because the circumstances described herein warrant immediate action, the Administrator finds that notice and public comment under 5 U.S.C. 553(b) are impracticable and contrary to the public interest. Further, the Administrator finds that good cause exists under 5 U.S.C. 553(d) for making this rule effective immediately upon issuance by the FAA Administrator. This action is necessary to permit aircraft operations at the affected airports and prevent possible hazardous actions directed against aircraft, persons, and property within the United States.

Environmental Effects

This action establishes the Olympic ring airspace and TFR areas for safety and security purposes and curtails or limit certain aircraft operations within designated areas at defined dates and times, rather than require aircraft to be operated along specified routings or in accordance with specific procedures. Additionally, this action is temporary in nature and effective only for the dates and times necessary to provide for the safety and protection of participants and spectators on the ground, as well as law enforcement and security personnel operating in the air at Olympic game venues. ATC retains the ability to direct aircraft through the restricted areas in accordance with normal traffic flows. The FAA believes, therefore, that the establishment of temporary flight restriction areas has minimal impact on ATC routings or procedures.

Further, this action results in a reduction in aircraft activity in the vicinity of the Olympic games by restricting aircraft operations. Therefore, there will be fewer aircraft operations in the vicinity of the Olympic games than would have occurred if the restricted areas were not in place and noise levels associated with that greater aircraft activity also are reduced. Additionally, aircraft avoiding the restricted areas will not be routed over any particular area. This action, therefore, does not result in any long-term action that routinely routes aircraft over noise-sensitive areas. For the reasons stated above, the FAA concludes that this rule does not significantly affect the quality of the human environment.

International Compatibility

In keeping with U.S. obligations under the Convention on International Civil Aviation, it is FAA policy to comply with International Civil Aviation Organization (ICAO) Standards and Recommended Practices (SARP) to the maximum extent practicable. The FAA determined that there are no ICAO Standards and Recommended Practices that correspond to this SFAR.

Paperwork Reduction Act

In accordance with the Paperwork Reduction Act of 1995 (Pub. L. 104-13), the small amount of paperwork burden associated with the rule will be submitted to the Office of Management and Budget for review.

Regulatory Analyses

Changes to Federal regulations must undergo several economic analyses. First, Executive Order 12866 directs each Federal agency to propose or adopt a regulation only if the agency makes a reasoned determination that the benefits of the intended regulation justify its costs. Second, the Regulatory Flexibility Act of 1980 requires agencies to analyze the economic impact of regulatory changes on small entities. Third, the Trade Agreements Act (19 U.S.C. sections 2531-2533) prohibits agencies from setting standards that create unnecessary obstacles to the foreign commerce of the United States. In developing U.S. standards, this Trade Act requires agencies to consider international standards. Where appropriate, agencies are directed to use those international standards as the basis of U.S. standards. And fourth, the Unfunded Mandates Reform Act of 1995 requires agencies to prepare a written assessment of the costs, benefits and other effects of proposed or final rules. This requirement applies only to rules that include a Federal mandate on State, local or tribal governments or the private sector, likely to result in a total expenditure of $100 million or more in any one year (adjusted for inflation.) In conducting these analyses, FAA has determined this rule:

(1) Has benefits which do justify its costs, is a “significant regulatory action” as defined in the Executive Order and is “significant” as defined in DOT's Regulatory Policies and Procedures;

(2) Will have a significant impact on a substantial number of small entities,

(3) Will not constitute a barrier to international trade; and

(4) Does not impose an unfunded mandate on State, local, or tribal governments, or on the private sector.

Costs and Benefits

There are five major areas where economic impacts are likely: (1) Slot reservation system; (2) the establishment of the Olympic ring airspace; (3) temporary flight restrictions; (4) background checks; and (5) required use of gateway airports for some aircraft operations for security inspections prior to entering the Olympic ring airspace.

1. Slot Reservation System

During the busy Olympic period, the U.S. Government must assure the security of the Olympic venues, the athletes, visitors and people of Utah, while also maintaining the safe and efficient use of airspace. To achieve these objectives the FAA will implement an arrival and departure slot reservation system to manage air traffic into and out of four airports serving the Olympic games that are located outside the Olympic ring airspace. These four airports are Wendover, Logan and Brigham City, Utah, and Evanston, Wyoming. The FAA has determined that a slot program is necessary at these airports because it anticipates a significant increase in air traffic at these airports due to the Olympics.

The FAA anticipates that most passenger flights going into one of the slot airports would be operating under either 14 CFR parts 91 or 135. Some cargo operations operating under either 14 CFR parts 121 or 135 also may use the slot airports and then move cargo into the Salt Lake City area by motor vehicle. Flight operations that are not able to secure a slot reservation may have to fly into an airport further outside the Olympic ring airspace, or be postponed.

For 14 CFR part 135 flight operations, the cost of the cancellations would be the value of the flights to airlines and passengers less aircraft operating cost to conduct the flights. Other flights may be diverted to other airports in the Olympic games area. Diversions would result in additional cost of trips to and from places of intended lodging and possible extra aircraft operation costs. The major economic impact in the case of diversion would be inconvenience to operators who may not be able to operate at their first choice airport. Because such occurrences are of a limited duration, the FAA believes that costs associated with any diversions from one airport to another in the affected area will probably be small. Current personnel and equipment resources will absorb the additional FAA administrative workload generated by this emergency final rule. The slot provision will not require any additional air traffic controllers nor any additional radar control equipment.

The benefits of the slot reservation system will be better management of the air traffic into airports located just outside the Olympic ring airspace. The increase of air traffic due to the Olympics could overwhelm these smaller airports without a slot reservation system. Additionally, given this increase in air traffic, there is an increased risk of accidents due to this unprecedented congestion in the airspace outside the Olympic ring if greater controls are not implemented. Implementing a slot reservation system also may reduce the number of delays at these airports.

2. Establishment of Olympic Ring Airspace

The FAA is establishing a 45 NM ring around Salt Lake City Airport Runway 17, with a vertical limit extending from the surface up to but not including 18,000 feet MSL. This airspace is known as the Olympic ring airspace. There are a total of 10 public airports located within this ring and an unknown number of private airports. Aircraft operators may operate only at the following six airports within the Olympic ring airspace—

• Salt Lake City International (SLC) Salt Lake City, UT;

• Ogden Municipal Airport (OGD),Ogden, UT;

• Provo Municipal Airport (PVU), Provo, UT;

• Heber City Municipal-Ross McDonald Field Airport (36U), Heber City, UT;

• Salt Lake City Municipal Airport (U42), Salt Lake City, UT; and

• Skypark Airport (BTF), Bountiful, UT (rotorcraft operations only).

The FAA is aware of four public use airports located in Utah at which aircraft will not be permitted to operate due to the imposition of the Olympic ring airspace. These are Eagle Mountain, Morgan County, Spanish Fork, and Tooele Valley. It is necessary to prohibit aircraft operations due to manpower issues and to maintain security over the airspace. In selecting the airports that will be available for aircraft operations the U.S. government considered many factors including location, IFR capability, the size of the airport, the type of aircraft it will accommodate, and the presence of air traffic control towers. Airports that are not available for aircraft operations will likely lose or delay operating revenue. Additionally, the restrictions may cause some operators to relocate aircraft to other airports where they can conduct operations during the February 8, 2002 through February 24, 2002, time period. The airports at which aircraft operators will not be permitted to operate all lack control towers. Eagle Mountain does not provide fuel or any other services. Bolinder Field-Tooele Valley, Morgan County, and Spanish Fork-Springville airports do provide fuel sales, aircraft rentals, maintenance, and flight training. According to available information, general aviation operations account for virtually all activity at these airports except for Spanish Fork where an estimated 5 percent of the operations are conducted by air taxis. Between 110 and 150 aircraft are based at these airports including approximately 6 multi-engine airplanes, 17 gliders and 2 ultralights.

There are a number of restrictions on the aircraft that can enter the Olympic ring airspace. The following flight operations will be prohibited within the Olympic ring airspace at all times—

(a) Hang gliding, paragliding and parasailing;

(b) Acrobatic flights;

(c) Radio remote-controlled aircraft;

(d) Gliders;

(e) Ultralights;

(f) Hot air balloons/airships;

(g) Tethered balloons;

(h) Flight training;

(i) Parachuting;

(j) Agriculture/crop dusting

(k) Animal population control flights

(l) Rockets (manned and unmanned);

(m) Shrimp spotters;

(n) Helicopter skiing;

(o) Commercial cargo carriers that do not have a Domestic Security Integration Program (DSIP) or a program that the Administrator has determined is equal to or exceeds such program; and

(p) Banner towing.

This prohibition is only for the duration of the Olympic ring airspace, thus while it will impact these operations significantly, such impact is for a limited period of time.

Passenger operations conducted by 14 CFR part 121 domestic or flag carriers, 14 CFR part 135 commuter operations or public charter operations as defined by 14 CFR section 108.3 are permitted to operate into, out of and within the Olympic ring airspace provided certain conditions are satisfied. 14 CFR part 121 all cargo carriers are permitted within the Olympic ring airspace provided certain conditions are satisfied. The FAA anticipates that only two conditions could impose additional costs on the operators—the condition that all crewmembers be accredited and the condition that requires all operators using this provision to have a security program in compliance with 14 CFR 108.101(a). The security program condition eliminates certain operators who would operate a flight subject to less than the full security program under 14 CFR 108.101(a). The FAA recognizes that this may cause certain operators to be diverted to Gateway airports, thus accruing additional costs (flight time, inspection time, fuel). However, the cost of these extraordinary regulations are necessary to ensure that aircraft entering the Olympic ring airspace meet a certain level of security.

14 CFR part 121 supplemental all cargo operations are permitted within the Olympic ring airspace provided, among other things, the carrier operates under a published schedule (or is a 14 CFR part 91 maintenance or positioning ferry flight) and the flight is in full compliance with the FAA's Domestic Security Integration Program. The FAA is aware that these conditions will prohibit certain cargo carriers from entering Olympic airspace, however, the Government is concerned about its ability to maintain security of the airspace with cargo carriers who do not comply with all of the prescribed conditions. This action will result in certain cargo carriers flying to outlying airports and transferring cargo to motor vehicle to be moved into the Olympic area. This additional cost, however, is necessary to ensure that aircraft entering the Olympic ring airspace meet a certain level of security.

Foreign air carriers that operate under 14 CFR part 129 or special authority from the Department of Transportation are permitted to enter the Olympic ring airspace only if the flight operation has been inspected at a Gateway airport in accordance with section 4(a)(x) or the carrier has been issued a waiver by the Administrator permitting the flight operation to enter the Olympic ring airspace and has demonstrated to the Administrator that the carrier's security program for that flight is similar to a security program that is in compliance with 14 CFR 108.101(a). The FAA believes that through the waiver, it can assure that foreign air carriers are not being discriminated against as compared to similarly situated domestic carriers.

With the exception of law enforcement, aeromedical services, news media aircraft, aircraft in support of the Olympics, military aircraft, aircraft carrying heads of state or other dignitaries, or foreign aircraft which are subject to special conditions, all other aircraft must enter the Olympic ring airspace only after landing at a Gateway airport and having a security inspection completed. See section 4(a)(x) of the SFAR. The costs to these operators are discussed herein under “Gateway Inspections.”

3. Temporary Flight Restrictions

To secure the airspace around the Olympic venues, the FAA is establishing nine TFR areas over the 2002 Winter Olympic village and Olympic venue areas. The Olympic Village TFR will be effective from January 25, 2002, 0000 hours, through February 25, 2002, 2400 hours. The competition venue TFR's will be effective from February 6, 2002, 0000 hours, through February 24, 2002. The establishment of TFR's over the Olympic ring airspace will result in the restriction of aircraft operations from the surface up to but not including 18,000 feet MSL.

These restrictions may require some flights to circumnavigate the TFR areas. The major economic impact of circumnavigation will be inconvenience to operators who may have wanted to operate in the area of the TFR's. Because such occurrences are of limited duration and the restricted area is limited in size, the FAA believes that any circumnavigation costs will be negligible. Maps depicting the TFR's may be purchased from NACO and will be shipped via United Parcel Service, First Class Mail, or priority package. The costs associated with these charts are small.

The potential benefits of the proposed TFR airspace will be primarily enhanced safety to the public. Enhanced safety will be achieved by reducing the risk of a terrorist attack from the air during the Olympic games.

4. Background Checks

All crewmembers will be required under this SFAR to be “accredited” prior to serving on an aircraft that enters the Olympic ring airspace. All crewmembers who are operating aircraft for operators with a security program in compliance with 14 CFR 108.101(a) should have a minimal accreditation burden. The crewmember accreditation process entails the submission of personal, company and aircraft information, and a criminal history review that requires the applicant to submit their fingerprints. The FAA estimates that it will take each applicant 1 hour to complete the forms, provide the required photos and fingerprints at a cost of $50, plus a $15 processing fee for a total of $65. The FAA had approximately 500 completed applications on hand as of the year-end and it is possible that another 500 applications will be submitted. Thus the total cost to the applicants is estimated to be approximately $65,000 ($65 × 1,000). The UOPSC will process the applications.

5. Gateway Airport Inspections

Flight operations conducted under section 4(a)(x) of the SFAR must have a special security check at a Gateway airport prior to entering the Olympic ring airspace, or prior to departing from an airport within the Olympic ring airspace. This security check will involve a check of all crewmembers, passengers, baggage and aircraft.

There are four Gateway airports:

(1) City of Coloardo Springs Municipal airport, Colorado Springs, CO (COS);

(2) Boise Air Terminal (Gowen Field), Boise, ID (BOI);

(3) Walker Field, Grand Junction, CO (GJT); and

(4) McCarran International Airport, Las Vegas, NV (LAS).

A team composed of an FAA inspector, other federal and local law enforcement representatives, and the National Guard will conduct the inspections. Assuming two teams are assigned to each airport, approximately 40 personnel will be assigned to this task for the 17-day period. Assuming an eight-hour shift at an hourly rate of $25, each team member will cost $200 per day and the total cost will be approximately $136,000 ($200 × 40 × 17). These costs will be borne by the federal and local governments.

Flights conducted under section 4(a)(x) are principally conducted by on-demand operators, corporate owners, and the general aviation community. These operators will incur additional costs to comply with this inspection requirement. The costs consist of lost time and extra operating costs. The inspection time will vary by size of aircraft and load factor; small aircraft may take less than 10 minutes while a large jet may take an hour. The FAA anticipates that this check will average ½ hour per aircraft.

Extra flying time will be required since these flights must stop at one of the four airports rather than flying directly to their destination airport. The airports where the inspections will be conducted are located from 215 miles to 407 miles from Salt Lake City with an average of 320 miles. While some flights may not incur this many extra miles depending on their routing, 320-miles serves as a benchmark. The distance of 320 miles represents about 85 minutes flight time for a twin engine turboprop and about 40 minutes for a business jet. Since the type of aircraft subject to the inspection is unknown at this time, an average of 60 minutes additional flying time is assumed. Thus the total additional time each flight will experience is estimated at 90 minutes.

The value of this additional travel time to each passenger is estimated at $50. This is based on a economic value of passenger time per hour for all general aviation passengers as calculated in Table E-1of the FAA's “Economic Values for Evaluation of Federal Aviation Administration Investment and Regulatory Programs”, June 1998, adjusted using the GDP implicit price deflator. The following values are also drawn from Table E-1. The “typical” general aviation and on-demand aircraft carries 3 passengers so the value of passenger time lost per flight is approximately $150. However, it is anticipated that larger aircraft will be used for these Olympic flights and are more likely to carry an estimated 16 passengers per flight (based on the number of passengers on commuter flights) thus increasing the value of passenger time lost per flight to approximately $800.

The “typical” general aviation and on-demand aircraft incurs fixed and variable operating costs per hour of approximately $725 while the larger aircraft which may be used for these Olympic flights incur operating costs of approximately $910 per hour (based on commuter flights operating costs). Thus the extra fixed and variable costs due to the inspection and extra flight time are estimated to range between $1,090 and $1,365 per flight.

The benefits of the Gateway Airport Inspection program will be a level of security equivalent to that of flights operated under § 108.101(a) of the Federal aviation regulations. This will provide a higher level of security within the Olympic ring that would not be possible without this program. These emergency procedures are necessary because of the terrorist attacks of September 11, 2001.

The FAA has determined that this rule will impose only temporary costs on the public. The overall magnitude of these costs while undetermined are limited to a 17-day period. The benefits will be increased aviation security resulting from a lower risk of accidents due to increased congestion during the 2002 Winter Olympics and increased security at the Olympic events due to the security inspections at the Gateway Airports.

Considering the temporary nature of this rule and the inherent benefits to the public, the FAA finds that the benefits of the rule justify its costs.

Regulatory Flexibility Determination

The Regulatory Flexibility Act of 1980 (RFA) establishes “as a principle of regulatory issuance that agencies shall endeavor, consistent with the objective of the rule and applicable statues, to fit regulatory and informational requirements to the scale of the business, organizations, and governmental jurisdictions subject to regulation.” To achieve that principle, the Act requires agencies to solicit and consider flexible regulatory proposals and to explain the rationale for their actions.

Agencies must perform a review to determine whether a proposed or final rule will have a significant economic impact on a substantial number of small entities. If the determination is that it will, the agency must prepare a regulatory flexibility analysis (RFA) as described in the Act.

However, if an agency determines that a proposed or final rule is not expected to have a significant economic impact on a substantial number of small entities, section 605(b) of the Act provides that the head of the agency may so certify and an RFA is not required. The certification must include a statement providing the factual basis for this determination, and the reasoning should be clear.

Many of the flights that will require inspections will be conducted by private operators and are not business flights for purposes of this analysis. A number of flights will be conducted as on-demand charter flights and the costs of the inspection time and the extra flight time will be costs to the business. However, it is likely that these costs will be borne by the chartering party and not the operator. In the event an on-demand operator must absorb the extra cost, the cost would consist of the crew accreditation fee and the extra operating cost. The accreditation fee will be $130 for two crewmembers and, assuming the use of a larger aircraft, additional operating costs of $1,365 for a total of approximately $1,500. If the operator flew one flight each day of the Olympics with a new crew each day the total cost would be $25,500.

The Small Business Administration (SBA) suggests that aircraft operators with 1,500 or fewer employees are “small” entities. Thus, nearly all on-demand charter operators are small entities. Data for firms with fewer than 1,500 employees are not available but a SBA analysis of Bureau of Census data for non-scheduled air transportation firms with fewer than 500 employees indicates they have average revenues of $1.87 million. Thus the possible cost of this emergency rule would equate to as much as 1.4 percent of a small entity's annual revenue. Since adequate data is not immediately available to more clearly establish impacts, the FAA assumes that this final rule will have a significant economic impact on a substantial number of small entities.

Accordingly, the FAA has prepared the following regulatory flexibility analysis although it is not required by the RFA because no notice of public rulemaking for this final rule will be published.

Reasons Agency Action Is Being Taken

The Secret Service and Customs Service have determined that in order to protect the athletes, visitors and people of Utah during the Olympics additional aviation security measures are necessary.

Statement of Objectives and Legal Basis

The Administrative Procedures Act (49 U.S.C 40103(b)(3)(B)) states that the FAA shall “establish security provisions that will encourage and allow the maximum use of the navigable airspace by civil aviation aircraft consistent with national security, [and] the Administrator, in consultation with the Secretary of Defense shall “* * * by regulation or order, restrict or prohibit flight of civil aircraft that the Administrator cannot identify, locate and control with aviation facilities in those areas”. See also 49 U.S.C.44701(a).

Description of Small Entities Affected

The FAA concludes that virtually all of the entities affected by this emergency rule are small according to thresholds established by the SBA. The on-demand charter operators that are affected by this rule could incur costs of approximately $25,500.

Projected Reporting, Recordkeeping and Other Compliance Requirements

The crewmembers of the operator most undergo a background check at an estimated cost of $65 per member. The usual crew complement consists of a pilot and a co-pilot for a cost per crew of $130. Assuming a new crew daily for the entire period, the cost to an operator would be $2,730.

Overlapping, Duplicative, or Conflicting Federal Rules

The rule would not overlap, duplicate, or conflict with existing Federal rules.

Analysis of Alternatives

This rule is an emergency security rulemaking. In order to achieve the level of security determined by the Secret Service and Customs Service it is essential that all aircraft entering the Olympic ring comply with these requirements. Allowing aircraft to enter the ring without either having a security program meeting 14 CFR 108.101 (a) or being inspected at a Gateway airport would compromise the overall security of the Olympics. These additional security measures are part of a broader security package that encompasses all transportation modes. An alternative would have been to ban all non-scheduled operations within the ring.

Affordability Analysis

The FAA lacks reliable revenue and profit data for the individual entities affected by this rule and, therefore, is unable to explicitly compare the potential costs to revenues or profits. This is because they have no financial reporting requirements. The FAA believes that very few entities will incur these costs since they will generally be included in the charter price.

Business Closure Analysis

The FAA estimates that no entity will cease to operate due to this rule which is only in effect for a 17-day period.

Disproportionality Analysis

Almost all entities in the on-demand charter business are small. Accordingly, the costs imposed by this rule will be borne almost entirely by small businesses. Security at the Olympics is essential and the FAA believes that the only way to ensure security is to control all operations entering the ring airspace.

Key Assumption Analysis

The FAA has made several conservative assumptions in this analysis which may have resulted in an overestimate of the costs of the rule. For example, the FAA has estimated that a new crew will be used each day. It is highly possible that the same crew will be used numerous times. The FAA has also assumed that a larger than average aircraft with higher operating costs will be used for these operations. It is possible that the average operating costs may be lower than the FAA has estimated and that no operator will be affected by this rule.

International Trade Impact Assessment

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards.

In accordance with the above statute, the FAA has assessed the potential effect of this final rule and has determined that it will impose the same costs on domestic and international entities for comparable services and thus has a neutral trade impact.

Unfunded Mandates

The Unfunded Mandates Reform Act of 1995 (the Act), enacted as Public Law 104-4 on March 22, 1995 is intended, among other things, to curb the practice of imposing unfunded Federal mandates on State, local, and tribal governments.

Title II of the Act requires each Federal agency to prepare a written statement assessing the effects of any Federal mandate in a proposed or final agency rule that may result in a $100 million or more expenditure (adjusted annually for inflation) in any one year by State, local, and tribal governments, in the aggregate, or by the private sector; such a mandate is deemed to be a “significant regulatory action.”

This rule does not contain such a mandate. Therefore, the requirements of Title II of the Unfunded Mandates Reform Act of 1995 do not apply.

Federalism Implications

The regulation set forth herein does not have substantial direct effects on the States, on the relationship between the national government and the States, or on the distribution of power and responsibilities among the various levels of government. Therefore, in accordance with Executive Order 12612, it is determined that this regulation does not have sufficient federalism implications to warrant the preparation of a Federalism Assessment.

List of Subjects in 14 CFR Part 91

Aircraft flight, Airspace, Aviation safety, Air Traffic Control.

The Amendment

For the reasons stated in the preamble, the Federal Aviation Administration amends 14 CFR chapter I as follows:

PART 91—GENERAL OPERATING AND FLIGHT RULES

1. The authority citation for part 91 continues to read as follows:

Authority: 49 USC 106(g), 1155, 40103, 40113, 40120, 44101, 44111, 44701, 44709, 44711, 44712, 44715, 44716, 44717, 44722, 46306, 46315, 46316, 46502, 46504, 46506, 46507, 47122, 47508, 47528-47531; articles 12 and 29 of the Convention on International Civil Aviation 861 stat. 1180.

2. Add Special Federal Aviation Regulation No. 95 to read as follows:

SFAR No. 95—Airspace and Flight Operations Requirements for the 2002 Winter Olympic Games, Salt Lake City, Utah

1. Applicability. This SFAR applies to all crewmembers aboard aircraft operating within the Olympic ring airspace, the Olympic village temporary flight restrictions area and the Olympic venue temporary flight restrictions area, and to all aircraft operating within this airspace.

2. Definitions.

(a) Olympic ring airspace—for the time period February 8, 2002, 0000 hours MST, through February 24, 2002, 2359 hours MST, that airspace within a 45 NM radius of the Salt Lake City International Airport Runway 17 localizer/distance measuring equipment (DME), identifier I-BNT (latitude 40°46′10.06″ N/111°57′43.44″ W) with a vertical limit extending from the surface up to but not including 18,000 feet mean sea level (MSL).

(b) Venue temporary flight restriction area (TFR)—that airspace overlying an U.S. Olympic competition venue as described in section 4(b) of this SFAR.

(c) Olympic Village temporary flight restriction area (TFR)—that airspace overlying the U.S. Olympic village and athletes housing as described in section 4(b) of this SFAR.

(d) Gateway Airport—an airport specified in section 5(b) of this SFAR that is located outside the Olympic ring airspace that aircraft flight operations seeking to enter the Olympic ring airspace pursuant to section 4 (a)(x) of this SFAR must land at prior to entry.

(e) UOPSC—Utah Olympic Public Safety Command

(f) ASOC—Aviation Security Operations Command

(g) Administrator—includes, in addition to the Administrator of the FAA, the Under Secretary of Transportation for Security, acting under the authority of the Aviation and Transportation Security Act, Pub. L. 107-71. During the transition period, the Administrator and the Under Secretary will coordinate closely to avoid duplication of requirements and disruption of operations.

3. General rules.

(a) Each person operating an aircraft within the Olympic ring airspace and all aircraft operating in this airspace shall adhere to the terms and conditions of this SFAR, all NOTAM's issued pursuant to this SFAR and all other applicable FAA rules and regulations. In addition, each person operating a flight originating outside U.S. airspace that enters U.S. airspace shall adhere to all international NOTAM's issued pursuant to this SFAR. NOTAM's are available for inspection at operating FAA air traffic facilities and regional air traffic division offices.

(b) As conditions warrant, the Administrator will:

(i) Restrict, prohibit, or permit VFR and IFR operations at any airport, terminal, or enroute airspace area designated in this SFAR or in a NOTAM issued pursuant to this SFAR;

(ii) Give priority to the following flights from provisions of this SFAR and NOTAM's issued pursuant to this SFAR—

(A) Essential military;

(B) Medical and rescue;

(C) Essential public health and welfare;

(D) Presidential and Vice Presidential;

(E) Flights carrying visiting heads of state;

(F) Law enforcement and security; and

(G) Flights authorized by the Director, Air Traffic Service.

(iii) Implement flow control management procedures.

(c) For security purposes, the Administrator may issue NOTAM's during the effective period of this SFAR to cancel or modify provisions of this SFAR and NOTAM's issued pursuant to this SFAR if such action is consistent with the safe and efficient use of airspace, and the safety and security of persons and property on the ground.

(d) No person may operate an aircraft in or through the Olympic ring airspace unless it is specifically authorized in section 4 of this SFAR and it is operated in accordance with this SFAR and all other applicable FAA rules and regulations.

(e) No operator may use, and no person may serve as, a crewmember in an aircraft operating in the Olympic ring airspace unless they have been accredited by the UOPSC. For further information on accreditation, contact UOPSC Aviation at (801) 257-2761.

(f) No person may operate an aircraft within the Olympic ring airspace, any Olympic venue TFR, or the Olympic Village TFR area unless the aircraft is equipped with an operating transponder with Mode C, and uses an assigned discrete beacon code while in this airspace.

(g) Unless otherwise provided for in this SFAR, persons operating flights that arrive at, or depart from, an airport located within the Olympic ring airspace may only conduct operations at the following designated airports located in the Olympic ring airspace: Salt Lake City International (SLC), Salt Lake City, UT; Ogden Municipal Airport (OGD), Ogden, UT; Provo Municipal Airport (PVU), Provo, UT; Heber City Municipal-Ross McDonald Field Airport (36U), Heber City, UT; Salt Lake City Municipal Airport (U42), Salt Lake City, UT; and Skypark Airport (BTF), Bountiful, Utah (rotorcraft operations only).

(h) No person is permitted to land an aircraft at, depart from, or otherwise operate an aircraft at any location other than those identified in paragraph (g) of this section, except for aeromedical aircraft responding to an emergency, military aircraft, or law enforcement and security aircraft that are conducting flights in support of the Olympic events.

(i) The following operations are specifically prohibited within the Olympic ring airspace at all times—

(i) Hang gliding, paragliding and parasailing;

(ii) Acrobatic flights;

(iii) Radio remote-controlled aircraft;

(iv) Gliders;

(v) Ultralights;

(vi) Hot air balloons/airships;

(vii) Tethered balloons;

(viii) Flight training;

(ix) Parachuting;

(x) Agriculture/crop dusting;

(xi) Animal population control flights;

(xii) Rockets (manned or unmanned);

(xiii) Shrimp spotters;

(xiv) Helicopter skiing;

(xv) Commercial cargo carriers flight operations that do not have a Domestic Security Integration Program (DSIP) or a program that the Administrator has determined equal or exceeds such program; and

(xvi) Banner towing.

4. Restricted airspace.

(a) Olympic Ring Airspace. No person operating an aircraft and no aircraft may enter, depart from, or fly within the Olympic ring airspace unless the aircraft operation is identified below and is operated in compliance with all applicable conditions:

(i) A 14 CFR part 121 Domestic, Flag Operation, 14 CFR part 135 Commuter Operation or public charter operation as defined by 14 CFR 108.3 of this chapter, is permitted in the Olympic ring airspace provided the aircraft is operated by a commercial passenger carrier certificated under 14 CFR part 119 of this chapter that:

(A) Is operated in accordance with 14 CFR part 121 or part 135 of this chapter, as applicable, under a regularly published schedule, or is operated as a 14 CFR part 91 maintenance or positioning ferry flight;

(B) Is operated in accordance with an open IFR flight plan, unless otherwise authorized by ATC;

(C) Has received a discrete beacon code and transmits that code while airborne in the Olympic ring airspace;

(D) Is conducted in accordance with a full security program under 14 CFR 108.101(a) (no exceptions allowed);

(E) Complies with the provisions of this SFAR and all other applicable FAA rules and regulations; and

(F) Complies with all additional safety and security requirements communicated to the carriers via NOTAM, security directives or operations specifications.

(ii) A 14 CFR part 121 supplemental all-cargo operation is permitted within the Olympic ring airspace provided the aircraft is operated by a commercial cargo carrier certificated under 14 CFR part 119 to operate in accordance with 14 CFR part 121 of this chapter that:

(A) Is operated in accordance with 14 CFR part 121 of this chapter under a published schedule, or is a 14 CFR part 91 maintenance or positioning ferry flight;

(B) Is operated in accordance with an open IFR flight plan, unless otherwise authorized by ATC;

(C) Has received a discrete beacon code and transmits that code while airborne in the Olympic ring airspace;

(D) Is in full compliance with the FAA's Domestic Security Integration Program or is in full compliance with a program that has been approved by the Administrator as equal to or exceeding the DSIP Program; and

(E) Complies with all additional security requirements communicated to the air carriers via NOTAM, security directive or operations specifications.

(iii) A foreign air carrier operating under 14 CFR part 129 or under authority from the U.S. Department of Transportation (14 CFR part 375) may enter the Olympic ring airspace only if the flight operation is in compliance with section 4(a)(x) of this SFAR or the carrier has been issued a waiver by the Administrator permitting the flight operation to enter the Olympic ring airspace and has demonstrated to the Administrator that the carrier's security program for that flight is similar to a security program that is in full compliance 14 CFR 108.101(a) of this chapter.

(iv) A law enforcement or aeromedical services aircraft may land in, depart from, or fly within the Olympic ring airspace provided it is in compliance with the applicable provisions of this SFAR and the pilot has notified the ASOC that the aircraft is landing in, departing from, or flying within the Olympic ring airspace and has received authorization from ASOC to conduct such operation.

(v) An aircraft carrying news media representatives may land in, depart from, or fly within the Olympic ring airspace only if it is in compliance with the applicable provisions of this SFAR and the pilot has notified ASOC that the aircraft is landing in, departing from, or flying within the Olympic ring airspace and has received authorization from ASOC to conduct such operation.

(vi) Aircraft directly supporting the Salt Lake Organizing Committee are permitted to operate in the Olympic ring airspace only if the operation is in compliance with the applicable provisions of this SFAR and the pilot notifies ASOC that it is landing in, departing from, or flying in the Olympic ring airspace and has received authorization from ASOC to conduct such operation.

(vii) Aircraft and crewmembers used in military operations or other operations in support of event security and public safety may operate within the Olympic ring airspace only if the pilot notifies ASOC that the aircraft is landing in, departing from, or flying in the Olympic ring airspace and receives authorization from ASOC to conduct such operation.

(viii) Aircraft carrying the President or Vice President of the United States are permitted to operate within the Olympic ring airspace as authorized by the U.S. Secret Service.

(ix) All aircraft carrying heads of state or other dignitaries may operate within the Olympic ring airspace provided the flight is in compliance with the applicable provisions of this SFAR and the pilot notifies ASOC that it is landing in, departing from, or flying in the Olympic ring airspace and receives authorization from ASOC to conduct such operation.

(x) Except for those aircraft flight operations specifically prohibited for the duration of this SFAR under section 3 (i) of this SFAR, aircraft operations not satisfying one of the categories identified in section 4 (a)(i) through (a)(ix) are permitted within the Olympic ring airspace only if all of the following conditions are satisfied—

(A) The operation is in compliance with all applicable provisions of this SFAR;

(B) The aircraft is operating in accordance with an open IFR flight plan from a Gateway airport;

(C) The aircraft, passengers, baggage and crewmembers have been inspected and cleared by SLC Olympic Security Team Inspectors at a Gateway airport, or at an airport designated in section 5 of this SFAR within the Olympic ring airspace;

(D) The aircraft has been assigned a discrete beacon code and transmits that code while airborne in the Olympic ring airspace; and

(E) The aircraft complies with any additional NOTAMS or security directives.

(xi) All other aircraft, including but not limited to operations conducted under part 103 of this chapter, are prohibited from operating within the Olympic ring airspace, unless specifically authorized by the terms of the SFAR or by special authorization by the Administrator and ASOC.

(xii) All aircraft are prohibited from operating within the Olympic ring airspace on February 8, 2002, from 1800 hours to 2200 hours MST, and on February 24, 2002, from 1800 hours to 2200 hours MST, except for aircraft operated by law enforcement, emergency medical services or the military, or other operations in support of national or event security and public safety provided that the pilot has notified ASOC that it needs to operate within the Olympic ring airspace and has received authorization from ASOC to conduct such operation; or the aircraft is operating under the direction of FAA ATC and is instructed by FAA ATC to enter the airspace due to weather, traffic or routing. The pilot must remain in radio contact with FAA ATC and under ATC direction for the entire time the flight is within the Olympic ring airspace.

(b) Venue TFR area and Olympic Village TFR area. [Note: These are the planned TFRs. Pilots must check the NOTAM system to ensure they have the latest TFR information.]

(i) No aircraft may enter or operate within the airspace overlying a Venue TFR or the Olympic Village TFR area during the times indicated, unless one of the following applies—

(A) The aircraft operation is for purposes of law enforcement, aeromedical services, or is a military flight or other operation in support of national or event security and public safety operations and the pilot has notified ASOC that it needs to operate within the Olympic venue TFR or Olympic village TFR area and has received authorization from ASOC to conduct such operation; or

(B) The aircraft is operating under the direction of Air Traffic Control, and Air Traffic Control has directed the pilot to operate within the venue or Olympic village TFR due to weather, traffic or routing. The pilot must remain in radio contact with FAA ATC and under ATC direction for the entire time the flight is within the venue or Olympic village TFR.

(ii) The following TFRs are established—

(A) The Olympic Village; Salt Lake City, Utah.

That airspace within a 3 NM radius of latitude (lat.) 40 deg.46′22″ N, longitude (long.) 111 deg.50′37″ W (SLC 110R/8 NM distance measuring equipment (DME) fix). Designated altitudes: Surface up to but not including 18,000 feet mean sea level (MSL). Times of Designation: January 25, 2002 to February 25, 2002, 24 hours per day. Using agency: Utah Olympic Public Safety Command (UOPSC). Contact: Patricia Miller, 801-257-2761 www.uopsc.org

(B) The E Center; West Valley City, Utah.

That airspace within a 2 NM radius of lat. 40 deg.42′07.6″ N, long. 111 deg.57′05.6″ W (SLC 155R/9 NM DME fix). Designated altitudes: Surface up to but not including 18,000 feet MSL. Times of Designation: February 6, 2002 to February 24, 2002, 24 hours per day. Using agency: UOPSC. Contact: Patricia Miller, 801-257-2761 www.uopsc.org

(C) Utah Olympic Oval; Kearns, Utah.

That airspace within a 2 NM radius of lat. 40 deg.40′22.8″ N, long. 112 deg.00′02.8″ W (SLC 168R/10.8 NM DME fix). Designated altitudes: Surface up to but not including 18,000 feet MSL. Times of Designation: February 6, 2002 to February 24, 2002, 24 hours per day. Using agency: UOPSC. Contact: Patricia Miller, 801-257-2761 www.uopsc.org

(D) The Peaks Ice Arena; Provo, Utah.

That airspace within a 2 NM radius of lat. 40 deg.14′03.7″ N, long. 111 deg.38′05.3″ W (FFU 084R/14.3 NM DME fix), excluding the airspace along and southwest of I-15. Designated altitudes: Surface up to but not including 18,000 feet MSL. Times of Designation: February 6, 2002 to February 24, 2002, 24 hours per day. Using agency: UOPSC. Contact: Patricia Miller, 801-257-2761 www.uopsc.org

(E) The Ice Sheet at Ogden; Ogden, Utah.

That airspace within a 2 NM radius of lat. 41 deg.11′00.6″ N, long. 111 deg.56′47.6″ W (OGD 092R/7.3 NM DME fix). Designated altitudes. Surface up to but not including 18,000 feet MSL. Times of Designation: February 6, 2002 to February 24, 2002, 24 hours per day. Using agency: UOPSC. Contact: Patricia Miller, 801-257-2761 www.uopsc.org

(F) Snowbasin Ski Area; Huntsville, Utah.

That airspace within a 2.5 NM radius of lat. 41 deg.12′40″ N, long. 111 deg.51′30″ W (OGD 077R/10.9 NM DME fix). Designated altitudes. Surface up to but not including 18,000 feet MSL. Times of Designation: February 6, 2002 to February 24, 2002, 24 hours per day. Using agency: UOPSC. Contact: Patricia Miller, 801-257-2761 www.uopsc.org

(G) Utah Olympic Park; Park City, Utah.

That airspace within a 2.5 NM radius of lat. 40 deg.42′40.6″ N, long. 111 deg.33′40.4″ W (SLC 097R/20.9 NM DME fix), excluding the airspace along and North of I-80. Designated altitudes: Surface up to but not including 18,000 feet MSL. Times of Designation: February 6, 2002 to February 24, 2002, 24 hours per day. Using agency: UOPSC. Contact: Patricia Miller, 801-257-2761 www.uopsc.org

(H) Park City and Deer Valley Mountain Resorts; Park City, Utah.

That airspace within a 3 NM radius of lat. 40 deg.38′31.8″ N, long. 111 deg.29′40.7″ W (SLC 103R/25.5 NM DME fix) excluding that airspace along and east of U.S. Highway 40. Designated altitudes: Surface up to but not including 18,000 feet MSL. Times of Designation: February 6, 2002 to February 24, 2002, 24 hours per day. Using agency: UOPSC. Contact: Patricia Miller, 801-257-2761 www.uopsc.org

(I) Soldier Hollow; Heber City, Utah.

That airspace within a 2.5 NM radius of lat. 40 deg.28′53.7″ N, long. 111 deg.29′44.4″ W (FFU 043R/23.9 NM DME fix) excluding that airspace along and southeast of Highway 189. Designated altitudes. Surface up to but not including 18,000 feet MSL. Times of Designation: February 6, 2002 to February 24, 2002, 24 hours per day. Using agency: UOPSC. Contact: Patricia Miller, 801-257-2761 www.uopsc.org

5. Flights operating within the Olympic Ring Airspace pursuant to section 4 (a)(x) of this SFAR.

(a) General Description. (i) All flights that operate in accordance with section 4 (a)(x) of this SFAR must arrive at, or depart from, one of the following airports within the Olympic ring airspace: Salt Lake City International (SLC), Salt Lake City, UT; Ogden Municipal Airport (OGD), Ogden, UT; Provo Municipal Airport (PVU), Provo, UT; Heber City Municipal-Ross McDonald Field Airport (36U), Heber City, UT; Salt Lake City Municipal Airport (U42), Salt Lake City, UT; or Skypark Airport (BTF), Bountiful, UT (rotorcraft operations only).

(b) Security Check: (i) Prior to entering the Olympic ring airspace, all operations conducted in accordance with section 4 (a)(x) of this SFAR must first land at one of the following Gateway airports listed below and undergo a consensual security inspection by SLC Olympic Security Team Inspectors and be approved for landing in the Olympic ring airspace:

(A) City of Colorado Springs Municipal Airport, Colorado Springs, CO (COS);

(B) Boise Air Terminal (Gowen Field), Boise, ID (BOI);

(C) Walker Field, Grand Junction, CO (GJT); and

(D) McCarran International Airport, Las Vegas, NV (LAS).

(ii) An aircraft (including passengers and baggage) and crew that has been inspected at a Gateway airport, approved for entering the Olympic ring airspace by SLC Olympic Gateway Security Team Inspectors and departs for a designated airport located within the Olympic ring airspace, is prohibited from making any intermediate stops. Any aircraft that has been inspected and approved by SLC Olympic Gateway Security Team Inspectors at a Gateway airport that lands at an airport other than its intended destination within the Olympic ring airspace, must be reinspected and reapproved by SLC Olympic Gateway Security Team Inspectors at a Gateway airport before entering the Olympic ring airspace.

(iii) All flights conducted under section 4 (a)(x) of this SFAR that depart from an Olympic ring airport identified in section 5 (a) of this SFAR must first be inspected and approved for departure by SLC Olympic Gateway Security Team Inspectors and must operate on an IFR flight plan from the Gateway airport.

(iv) No earlier than 48 hours prior to arrival at a Gateway airport, or departure from an airport within the Olympic ring airspace, an operator must arrange for a security inspection with the SLC Olympic Security Team Inspectors. This appointment may be made by calling: 801-775-5524.

6. Slot reservation process. (a) Starting February 8, 2002, 0000 hours MST, through February 25, 2002, 2359 hours MST, all aircraft arriving or departing at one of the following airports located outside of the Olympic ring airspace must have a slot reservation prior to arrival or departure: Wendover, Logan, or Brigham City, Utah, or Evanston, Wyoming.

(b) Slot reservations for the airports identified in section 6 (a) of this SFAR may be obtained up to 72 hours in advance by contacting 1-800-975-9755 or by accessing www.fly.faa.gov starting February 5, 2002.

7. Termination date. Except for section 4 (b)(i) and 4 (b)(ii)(A), this SFAR terminates on February 24, 2002, 2359 hours MST, unless an earlier date is prescribed for a specific provision. The Olympic Village TFR terminates on February 25, 2002, at 2359 hours MST.

Issued in Washington, DC, on January 15, 2002.
Jane F. Garvey,
Administrator.

[FR Doc. 02-1441 Filed 1-16-02; 10:15 am]

BILLING CODE 4910-13-P